DEPARTMENT OF TRANSPORTATION

Federal Aviation Administration

14 CFR Part 73

[Docket No. FAA-2016-9591; Airspace Docket No. 16-ASW-21]

RIN 2120-AA66

Proposed Establishment of Temporary Restricted Area R-5602; Fort Sill, OK

AGENCY: Federal Aviation Administration (FAA), DOT.

ACTION: Notice of proposed rulemaking (NPRM).

SUMMARY: This action proposes to establish temporary restricted area R-5602, over the Fort Sill, OK, R-5601 restricted area complex, to support the U.S. Army Maneuver & Fires Integration Experiment (MFIX) 2018 scheduled for December 2017. MFIX 2018 is planned to exercise hazardous laser operations conducting counter unmanned aircraft systems (UAS) activities. The temporary restricted area would be in effect from December 4 through December 15, 2017.

DATES: Comments must be received on or before April 10, 2017.

ADDRESSES: Send comments on this proposal to the U.S. Department of Transportation, Docket Operations, M-30, 1200 New Jersey Avenue SE., West Building Ground Floor, Room W12-140, Washington, DC 20590-0001; telephone: 1 (800) 647-5527, or telephone: (202) 366-9826. You must identify FAA Docket No. FAA-2016-9591 and Airspace Docket No. 16-ASW-21, at the beginning of your comments. You may also submit comments through the Internet at www.regulations.gov. You may review the public docket containing the proposal, any comments received, and any final disposition in person in the Dockets Office between 9:00a.m. and 5:00 p.m., Monday through Friday, except Federal holidays. The Docket Office (telephone 1-800-647-5527), is on the ground floor of the building at the above address.

Comments on environmental and land use aspects to should be directed to: U.S. Army Garrison, Directorate of Public Works, Attn: IMSI-PWE (Sarah Sminkey), Environmental Quality Division, Fort Sill, OK 73503-5100; email: sarah.e.sminkey.civ@mail.mil; telephone: (580) 442-2849.

FOR FURTHER INFORMATION CONTACT: Colby Abbott, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would establish temporary restricted area airspace at Fort Sill, OK, to enhance aviation safety and accommodate essential U.S. Army hazardous above-the-horizon laser operations conducting counter UAS activities.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2016-9591 and Airspace Docket No. 16-ASW-21) and be submitted in triplicate to the Docket Management System (see ADDRESSES section for address and phone number). You may also submit comments through the Internet at www.regulations.gov.

Commenters wishing the FAA to acknowledge receipt of their comments on this action must submit with those comments a self-addressed, stamped postcard on which the following statement is made: “Comments to FAA Docket No. FAA-2016-9591 and Airspace Docket No. 16-ASW-21.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at www.regulations.gov. Recently published rulemaking documents can also be accessed through the FAA's Web page at http://www.faa.gov/air_traffic/publications/airspace_amendments/.

You may review the public docket containing the proposal, any comments received and any final disposition in person at the Dockets Office (see ADDRESSES section for address and phone number) between 9:00 a.m. and 5:00 p.m., Monday through Friday, except Federal holidays. An informal docket may also be examined during normal business hours at the office of the Operations Support Group, Central Service Center, Federal Aviation Administration, 10101 Hillwood Blvd., Fort Worth, TX 76177.

Background

As the U.S. Army's Center of Excellence for Fires, Fort Sill has submitted a proposal to the FAA to establish a temporary restricted area overlying a portion of the Fort Sill R-5601 restricted area complex, and extending slightly eastward, to support the Army's Maneuver & Fires Integration Experiment (MFIX) 2018 planned for December 4-15, 2017. The proposed restricted area would contain hazardous laser activities associated with demonstrating and developing training employment tactics for counter UAS capabilities.

Specifically intended to destroy unmanned aircraft, the hazardous laser activities require additional short-term restricted airspace to supplement the existing Fort Sill R-5601 complex and ensure the protection of nonparticipating air traffic when hazardous activities are occurring. Minimal aeronautical impact is anticipated since the temporary restricted area would be located above the existing R-5601 complex which extends from the surface to 40,000 feet mean sea level (MSL), and the designated altitudes of the temporary restricted area would extend upward from 40,000 feet MSL to 60,000 feet MSL.

The Proposal

The FAA is proposing an amendment to 14 CFR part 73 to establish temporary restricted area R-5602 in support of MFIX 2018 during the period December 4-15, 2017, to contain hazardous laser activities demonstrating counter UAS capabilities. To effectively segregate nonparticipant air traffic from the hazardous activities associated with MFIX 2018, R-5602 would extend from 40,000 feet MSL to 60,000 feet MSL, would be activated daily by a Notice to Airmen (NOTAM), and would be in effect only during the period of December 4 through December 15, 2017.

The proposed lateral boundaries for R-5602 would overlie and extend upward over the ceilings of the R-5601A, R-5601B, and a portion of R-5601F restricted areas and extend approximately 8 nautical miles (NM) east beyond the R-5601A and R-5601F eastern boundaries. Collectively, the R-5602 proposed boundaries and existing R-5601 restricted areas would fully contain the planned hazardous laser beam trajectories, within restricted area airspace, from the surface to 60,000 feet MSL.

The proposed designated altitudes for R-5602 would extend upward from 40,000 feet MSL to 60,000 feet MSL. The altitudes are defined relative to MSL to highlight that the proposed area would be used for other than aircraft operations. From an air traffic perspective, establishing R-5602 for other than aircraft operations reduces radar separation requirements for circumnavigating the temporary restricted area and minimizes impacts to aviation.

The proposed time of designation for R-5602 is by NOTAM with an expected usage of approximately 2 hours per day during the MFIX 2018 period of December 4—15. The activation periods are planned for 0930 to 1130 or 1300 to 1500 daily; however, due to the heavy dependence on favorable weather and unpredictability of seasonal weather patterns, NOTAM activations could be adjusted as operationally necessary. Planning to use R-5602 only 2 hours per day during MFIX 2018 further minimizes impacts to aviation.

Since R-5602 is a temporary area, it would not be depicted on the Dallas-Ft. Worth Sectional Aeronautical Chart or the IFR Enroute High Altitude Chart, H-6. However, a notice and graphic depiction would be published in the Notices to Airmen Publication (NTAP). The NTAP is available on line at http://www.faa.gov/air_traffic/publications/notices/.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subjected to an environmental analysis in accordance with FAA Order 1050.1F, “Environmental Impacts: Policies and Procedures,” prior to any FAA final regulatory action.

List of Subjects in 14 CFR Part 73

Airspace, Prohibited Areas, Restricted Areas.

The Proposed Amendment

In consideration of the foregoing, the Federal Aviation Administration proposes to amend 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.56 Oklahoma [Amended]

2. § 73.56 is amended as follows:

* * * * *

R-5602 Fort Sill, OK [Temporary]

Boundaries. Beginning at lat. 34°49′30″ N., long. 98°08′43″ W.; to lat. 34°36′36″ N., long. 98°08′43″ W.; to lat. 34°36′36″ N., long. 98°17′01″ W.; to lat. 34°38′15″ N., long. 98°17′01″ W.; to lat. 34°38′15″ N., long. 98°37′57″ W.; to lat. 34°40′54″ N., long. 98°37′56″ W.; to lat. 34°42′07″ N., long. 98°37′20″ W.; to lat. 34°43′21″ N., long. 98°36′02″ W.; to lat. 34°43′30″ N., long. 98°35′40″ W.; to lat. 34°45′03″ N., long. 98°29′46″ W.; to lat. 34°46′15″ N., long. 98°25′01″ W.; to lat. 34°47′00″ N., long. 98°17′46″ W.; to lat. 34°46′45″ N., long. 98°17′01″ W.; to lat. 34°49′30″ N., long. 98°17′01″ W.; to the point of beginning.

Designated altitudes. 40,000 feet MSL to 60,000 feet MSL.

Time of designation. December 4—15, 2017, by NOTAM.

Controlling agency. FAA, Fort Worth ARTCC.

Using agency. U. S. Army, Commanding General, U. S. Army Fires Center of Excellence, Fort Sill, OK.

Issued in Washington, DC on February 8, 2017.
Leslie M. Swann,
Acting Manager, Airspace Policy Group.

[FR Doc. 2017-03539 Filed 2-22-17; 8:45 am]

BILLING CODE 4910-13-P